COMMODITY FUTURES TRADING COMMISSION

Sunshine Act Meetings

Federal Register Citation of Previous Announcement: 82 FR 14882, March 23, 2017.

Previously Announced Time and Date of the Meeting: 11:00 a.m., Thursday, March 30, 2017.

Changes in the Meeting: The meeting has been cancelled.

CONTACT PERSON FOR MORE INFORMATION: Christopher Kirkpatrick, 202-418-5964.

Christopher J. Kirkpatrick,
Secretary of the Commission.

[FR Doc. 2017-06466 Filed 3-29-17; 4:15 pm]

BILLING CODE 6351-01-P